DEPARTMENT OF TRANSPORTATION

Federal Aviation Administration

14 CFR Part 39

[Docket No. FAA-2005-22918; Directorate Identifier 2005-NM-172-AD]

RIN 2120-AA64

Airworthiness Directives; Airbus Model A319-100 and A320-200 Series Airplanes

AGENCY: Federal Aviation Administration (FAA), Department of Transportation (DOT).

ACTION: Notice of proposed rulemaking (NPRM).

SUMMARY: The FAA proposes to adopt a new airworthiness directive (AD) for certain Airbus Model A319-100 and A320-200 series airplanes. This proposed AD would require repetitive inspections of the wing-tank fuel pumps, canisters, and wing fuel tanks for detached identification labels, and corrective action if necessary. This proposed AD results from several incidents of detached plastic identification labels found floating in the wing fuel tanks. We are proposing this AD to prevent plastic identification labels being ingested into the fuel pumps and consequently entering the engine fuel feed system, which could result in an engine shutdown.

DATES: We must receive comments on this proposed AD by December 12, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

We invite you to submit any relevant written data, views, or arguments regarding this proposed AD. Send your comments to an address listed in the ADDRESSES section. Include the docket number “FAA-2005-22918; Directorate Identifier 2005-NM-172-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain Airbus Model A319-100 and A320-200 series airplanes. The DGAC advises that, in several incidents, plastic identification labels have been found floating in the fuel tanks. There are two types of labels and the information on the labels identifies each rib number in the vent box and the manhole door fasteners in the wing fuel tank, for inspection purposes. Inspection of the airplanes revealed that the varnish coating and adhesive on the labels had deteriorated and the labels detached from the wing structure. Detached labels floating in the fuel tank could be ingested into the fuel pumps and consequently enter into the engine fuel feed system. These conditions, if not corrected, could result in an engine shutdown.

Relevant Service Information

Airbus has issued Service Bulletin A320-28-1102, Revision 01, dated February 11, 2005. The service bulletin describes procedures for repetitive detailed visual inspections of the four wing-tank fuel pumps and canisters for detached identification labels, and corrective action if necessary. The corrective action involves removing any label debris that is found, performing a detailed visual inspection for debris of the fuel filters and replacing the filters if necessary, and replacing the fuel pump if the inlet and outlet ports are blocked. The service bulletin also recommends sending an inspection report to Airbus.

Airbus has also issued Service Bulletin A320-57-1117, dated July 16, 2002. The service bulletin describes procedures for repetitive detailed visual inspections for detached identification labels in the collector cells between ribs 1 and 2, the surge tank between ribs 22 and 26, and the wing fuel tank and vent box, and corrective action if necessary. The corrective action involves removing any label debris that is found, removing any partially detached labels, and re-identifying certain fasteners and ribs.

The DGAC mandated the service information and issued French airworthiness directive F-2005-121, dated July 20, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in the service information described previously. For any wing-tank fuel pump failure that occurs, this proposed AD would also require performing a detailed inspection of the failed pump, the pump located in the same half wing, and the associated canister, and accomplishing any applicable corrective action, including replacing the pump.

Difference Between the Proposed AD and French Airworthiness Directive

The French airworthiness directive mandates changes to the master minimum equipment list (MMEL). This proposed AD will not mandate those MMEL changes because the limits imposed by the FAA-approved MMEL meet or exceed those mandated by the French airworthiness directive. We have coordinated this issue with the DGAC.

Clarification of Inspection Terminology

In this proposed AD, the “detailed visual inspections” specified in the service bulletins are referred to as “detailed inspections.” We have included the definition for a detailed inspection in a note in the proposed AD.

Costs of Compliance

This proposed AD would affect about 74 airplanes of U.S. registry.

The inspection specified in Service Bulletin A320-28-1102 would take about 3 work hours (including an operational test) per airplane, at an average labor rate of $65 per work hour. Based on these figures, the estimated cost of this proposed inspection for U.S. operators is $14,430, or $195 per airplane, per inspection cycle.

The inspection specified in Service Bulletin A320-57-1117 would take about 6 work hours (including an operational test) per airplane, at an average labor rate of $65 per work hour. Based on these figures, the estimated cost of this proposed inspection for U.S. operators is $28,860, or $390 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2005-22918; Directorate Identifier 2005-NM-172-AD.

Comments Due Date

(a) The FAA must receive comments on this AD action by December 12, 2005.

Affected ADs

(b) None.

Applicability

(c) This AD applies to Airbus Model A319-111, -112, -113, -114, -115, -131, -132, and -133, and Model A320-211, -212, -214, -231, -232, and -233 airplanes; certificated in any category; as identified in Airbus Service Bulletins A320-57-1117, dated July 16, 2002, and A320-28-1102, Revision 01, dated February 11, 2005.

Unsafe Condition

(d) This AD results from several incidents of detached plastic identification labels found floating in the wing fuel tanks. We are issuing this AD to prevent plastic identification labels being ingested into the fuel pumps and consequently entering the engine fuel feed system, which could result in an engine shutdown.

Compliance

(e) You are responsible for having the actions required by this AD performed within the compliance times specified, unless the actions have already been done.

Repetitive Inspections/Corrective Actions of Four Wing-Tank Fuel Pumps and Canisters

(f) Within 600 flight hours after the effective date of this AD: Perform a detailed inspection for detached identification labels in the four wing-tank fuel pumps and canisters, and do any applicable corrective actions, by doing all the actions in accordance with the Accomplishment Instructions of Airbus Service Bulletin A320-28-1102, Revision 01, dated February 11, 2005; except as provided by paragraph (j) of this AD. Do any applicable corrective action before further flight. Repeat the inspection thereafter at intervals not to exceed 600 flight hours.

(g) For any wing-tank fuel pump failure that occurs after the effective date of this AD: Before further flight, perform a detailed inspection of the failed pump, the pump located in the same half wing, and the associated canister, in accordance with the Accomplishment Instructions of Airbus Service Bulletin A320-28-1102, Revision 01, dated February 11, 2005. Do any applicable corrective action, including replacing the failed pump, before further flight.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Inspections and Corrective Actions Accomplished According to Previous Issue of Service Bulletin

(h) Inspections and corrective actions accomplished before the effective date of this AD according to Airbus Service Bulletin A320-28-1102, dated August 20, 2002; are considered acceptable for compliance with the corresponding actions specified in paragraph (f) of this AD.

Repetitive Inspections/Corrective Actions of the Collector Cells, Wing Fuel Tank and Vent Box

(i) Within 72 months after the effective date of this AD: Perform a detailed inspection for detached identification labels in the collector cells between ribs 1 and 2, the surge tank between ribs 22 and 26, and the wing fuel tank and vent box, and do any applicable corrective actions, by doing all the applicable actions in accordance with the Accomplishment Instructions of Airbus Service Bulletin A320-57-1117, dated July 16, 2002. Do any applicable corrective action before further flight. Repeat the inspection thereafter at intervals not to exceed 72 months.

No Reporting Required

(j) Although Airbus Service Bulletin A320-28-1102, Revision 01, dated February 11, 2005, specifies submitting an inspection report to the manufacturer, this AD does not include that requirement.

Alternative Methods of Compliance (AMOCs)

(k)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(l) French airworthiness directive F-2005-121, dated July 20, 2005, also addresses the subject of this AD.

Issued in Renton, Washington, on October 31, 2005.
Ali Bahrami,
Manager, Transport Airplane Directorate, Aircraft Certification Service.

[FR Doc. 05-22444 Filed 11-9-05; 8:45 am]

BILLING CODE 4910-13-P